FEDERAL COMMUNICATIONS COMMISSION

47 CFR Part 73

[DA 05-653; MB Docket No. 05-101; RM-11159]

Radio Broadcasting Services; Jackson, WY

AGENCY: Federal Communications Commission.

ACTION: Proposed rule.

SUMMARY: This document requests comments on a petition for rulemaking filed by Jackson Hole Community Radio proposing to amend the FM Table of Allotments, Section 73.202(b) of the rules, to allot Channel 294C2 at Jackson, Wyoming, and reserve it for noncommercial educational use. See Reexamination of the Comparative Standards for Noncommercial Educational Applicants (“NCE Report and Order”). 65 FR 36375 (June 8, 2000). Petitioner's proposal warrants consideration because the allotment could provide Jackson with its second NCE service. A preliminary staff engineering analysis of the proposal confirms that Channel 294C2 as proposed could provide a second NCE service to significantly more than 10 percent of the population within its 1 mV/m service area. In addition, our analysis confirms that there are no channels available in the FM reserved band. Channel *294C2 can be allotted at Jackson without a site restriction at coordinates 43-28-42 NL and 110-45-42 WL.

DATES: Comments must be filed on or before May 5, 2005, and reply comments on or before May 20, 2005.

ADDRESSES: Federal Communications Commission, 445 Twelfth Street, SW., Washington, DC 20554. In addition to filing comments with the FCC, interested parties should serve the petitioner, and Station KURB as follows: Jackson Hole Community Radio, Inc., c/o Henry A. Solomon, Esq., Garvey Schubert Barer, 1000 Potomac Street, NW., Fifth Floor, Washington, DC 20007-3501.

FOR FURTHER INFORMATION CONTACT: Victoria McCauley, Media Bureau, (202) 418-2180.

SUPPLEMENTARY INFORMATION: This is a synopsis of the Commission's Notice of Proposed Rule Making, MB Docket No. 05-101, adopted March 9, 2005, and released March 14, 2005. The full text of this Commission decision is available for inspection and copying during normal business hours in the FCC's Reference Information Center at Portals II, CY-A257, 445 Twelfth Street, SW., Washington, DC. The complete text of this decision may also be purchased from the Commission's duplicating contractor, Best Copy and Printing, Inc., 445 12th Street, SW., Room CY-B402, Washington, DC 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Wyoming is amended by adding Channel *294C2 at Jackson.

Federal Communications Commission.
John A. Karousos,
Assistant Chief, Audio Division, Media Bureau.

[FR Doc. 05-5848 Filed 3-23-05; 8:45 am]

BILLING CODE 6712-01-P